DEPARTMENT OF HEALTH AND HUMAN SERVICES

Centers for Disease Control and Prevention

Employment and Training Administration Determination Concerning a Class of Employees Considered for Addition to the Special Exposure Cohort

AGENCY: Centers for Disease Control and Prevention (CDC), Department of Health and Human Services (HHS).

ACTION: Notice.

SUMMARY: The Department of Health and Human Services (HHS) gives notice of a decision that a class of employees at the National Bureau of Standards, Van Ness Street, Washington, DC, do not meet the statutory criteria for addition to the Special Exposure Cohort (SEC) under the Energy Employees Occupational Illness Compensation Program Act of 2000 (EEOICPA). On December 8, 2005, the Secretary of HHS determined, based on the decision by the Department of Energy to remove the site from the list of covered facilities, that the following class of employees do not meet the statutory requirements for covered employees under EEOICPA and thus do not meet the statutory requirements for the SEC:

Physicists who worked in Building #2 at the National Bureau of Standards (NBS), Van Ness Street, Washington, DC, from 1943 through 1952.

This determination may be subject to an administrative review within HHS, pursuant to 42 CFR 83.16(b).

FOR FURTHER INFORMATION CONTACT: Larry Elliott, Director, Office of Compensation Analysis and Support, National Institute for Occupational Safety and Health, 4676 Columbia Parkway, MS C-46, Cincinnati, OH 45226, Telephone 513-533-6800 (this is not a toll-free number). Information requests can also be submitted by e-mail to OCAS@CDC.GOV.

Dated: December 20, 2005.
John Howard,
Director, National Institute for Occupational Safety and Health, Centers for Disease Control and Prevention.

[FR Doc. E5-7807 Filed 12-23-05; 8:45 am]

BILLING CODE 4163-17-P